DEPARTMENT OF COMMERCE

United States Patent and Trademark Office

Information Collection; Submissions Regarding Correspondence and Regarding Attorney Representation (Trademarks)

ACTION: Notice.

SUMMARY: The United States Patent and Trademark Office (USPTO), as part of its continuing effort to reduce paperwork and respondent burden, invites the general public and other Federal agencies to comment on the revision of this continuing information collection, as required by the Paperwork Reduction Act of 1995, Public Law 104-13 (44 U.S.C. 3506(c)(2)(A)).

DATES: Written comments must be submitted on or before July 14, 2014.

ADDRESSES: You may submit comments by any of the following methods:

• Email: InformationCollection@uspto.gov. Include “0651-0056 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of Catherine Cain, Attorney Advisor, Office of the Commissioner for Trademarks, United States Patent and Trademark Office, P.O. Box 1451, Alexandria, VA 22313-1451, by telephone at 571-272-8946, or by email to Catherine.Cain@uspto.gov. Additional information about this collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO.

Such individuals and businesses may also submit various communications to the USPTO regarding their pending applications or registered trademarks, including providing additional information needed to process a pending application, filing amendments to the applications, or filing the papers necessary to keep a trademark in force. In the majority of circumstances, individuals and businesses retain attorneys to handle these matters. As such, these parties may also submit communications to the USPTO regarding the appointment of attorneys of record to represent applicants in the application process or, in the case of applicants or registrants who are not domiciled in the United States, the appointment of domestic representatives on whom may be served notices or process in proceedings affecting the mark, the revocation of an attorney's or domestic representative's appointment, and requests for permission to withdraw from representation.

The rules implementing the Act are set forth in 37 CFR Part 2. In addition to governing the registration of trademarks, the Act and rules also govern the appointments and revocations of attorneys and domestic representatives and provide the specifics for filing requests for permission to withdraw as the attorney of record. The information in this collection is available to the public.

The information in this collection can be submitted in paper format or electronically through the Trademark Electronic Application System (TEAS). The information in this collection can be collected in three different formats: Paper format, electronically using TEAS forms with dedicated data fields, or electronically using the TEAS Global Form format. The TEAS Global Form format permits the USPTO to collect information electronically when a TEAS form having dedicated data fields is not yet available.

This collection currently has two TEAS forms and two TEAS Global Forms. There are no official paper forms for the items in this collection. Individuals and businesses can submit their own paper forms, following the USPTO's rules and guidelines to ensure that all of the necessary information is provided.

II. Method of Collection

The forms in this collection are available in electronic format through TEAS, which may be accessed on the USPTO Web site. TEAS Global Forms are available for the items where a TEAS form with dedicated data fields is not yet available. Applicants may also submit the information in paper form by mail, fax, or hand delivery.

III. Data

Title of Collection: Submissions Regarding Correspondence and Regarding Attorney Representation.

OMB Number: 0651-0056.

Form Number(s): PTO Forms 2196, 2197, and 2201. TEAS Global Forms: Change of Domestic Representative's Address, Replacement of Attorney of Record with Another Already-Appointed Attorney, and Request to Withdraw as Domestic Representative.

Type of Review: Regular submission (Renewal of Existing Collection with Changes).

Affected Public: Businesses or other for-profits; not-for-profit institutions.

Estimated Number of Respondents: 108,940 per year. Of this total, the USPTO estimates that 103,751 responses will be filed through TEAS.

Estimated Time Per Response: The USPTO estimates that it will take the public approximately 5 to 30 minutes (0.084 hours to 0.50 hours) to complete this information, depending on the complexity of the application. This includes the time to gather the necessary information, prepare the requests, and submit them to the USPTO. The time estimates shown for the electronic forms in this collection are based on the average amount of time needed to complete and electronically file the associated form.

Estimated Total Annual Respondent Burden Hours: 10,540.

Item No. | Item | Estimated time for response | Estimated annual responses | Estimated annual burden hours
1 | Revocation of Attorney/Domestic Representative and/or Appointment of Attorney/Domestic Representative (Paper) | 10 | 4,750 | 792
1 | Revocation of Attorney/Domestic Representative and/or Appointment of Attorney/Domestic Representative (TEAS) | 5 | 95,000 | 7917
2 | Request for Permission to Withdraw as Attorney of Record (Paper) | 15 | 425 | 106
2 | Request for Permission to Withdraw as Attorney of Record (TEAS) | 12 | 8,500 | 1700
5 | Replacement of Attorney of Record with Another Already Appointed Attorney (Paper) | 30 | 1 | 1
5 | Replacement of Attorney of Record with Another Already Appointed Attorney (TEAS Global) | 30 | 1 | 1
6 | Request to Withdraw as Domestic Representative (Paper) | 10 | 13 | 2
6 | Request to Withdraw as Domestic Representative (TEAS Global) | 5 | 250 | 21
Totals |  |  | 108,940 | 10,540

Estimated Total Annual Respondent Cost Burden: $4,100,060.

The USPTO expects that the information in this collection will be prepared by attorneys at an estimated rate of $389 per hour.

Item No. | Item | Estimated annual burden hours | Attorney hourly rate | Estimated annual burden hours
1 | Revocation of Attorney/Domestic Representative and/or Appointment of Attorney/Domestic Representative (Paper) | 792 | $389 | $308,088
1 | Revocation of Attorney/Domestic Representative and/or Appointment of Attorney/Domestic Representative (TEAS) | 7917 | 389 | 3,079,713
2 | Request for Permission to Withdraw as Attorney of Record (Paper) | 106 | 389 | 41,234
2 | Request for Permission to Withdraw as Attorney of Record (TEAS) | 1700 | 389 | 661,300
5 | Replacement of Attorney of Record with Another Already Appointed Attorney (Paper) | 1 | 389 | 389
5 | Replacement of Attorney of Record with Another Already Appointed Attorney (TEAS Global) | 1 | 389 | 389
6 | Request to Withdraw as Domestic Representative (Paper) | 2 | 389 | 778
6 | Request to Withdraw as Domestic Representative (TEAS Global) | 21 | 389 | 8,169
Totals |  | 10,540 |  | 4,100,060

Estimated Total Annual (Non-Hour) Respondent Cost Burden: There are no filing fees or capital start-up, maintenance, operation, or recordkeeping costs associated with this information collection. However, this collection does have postage costs associated with it.

Applicants incur postage costs when submitting the information in paper format to the USPTO by mail through the United States Postal Service. The USPTO estimates that the majority (98%) of the paper forms are submitted to the USPTO via first-class mail. The USPTO estimates that 5086 paper submissions will be mailed, for a total non-hour respondent cost burden of $2,492.00.

Item No. | Item | Responses (yr) (a) | Postage costs (b) | Total cost (yr) (a × b)
1 | Revocation of Attorney/Domestic Representative and/or Appointment of Attorney/Domestic Representative | 4655 | $0.49 | $2328.00
2 | Request for Permission to Withdraw as Attorney of Record | 417 | 0.49 | 209.00
5 | Replacement of Attorney of Record with Another Already Appointed Attorney | 1 | 0.49 | 1.00
6 | Request to Withdraw as Domestic Representative | 13 | 0.49 | 7.00
Totals |  | 5,086 |  | 2,492.00

IV. Request for Comments

Comments submitted in response to this notice will be summarized and/or included in the request for OMB approval. All comments will become a matter of public record.

The USPTO is soliciting public comments to: (a) Evaluate whether the proposed collection of information is necessary for the proper performance of the functions of the agency, including whether the information shall have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: May 8, 2014.
Susan K. Fawcett,
Records Officer, USPTO, Office of the Chief Information Officer.

[FR Doc. 2014-10942 Filed 5-12-14; 8:45 am]

BILLING CODE 3510-16-P